DEPARTMENT OF TRANSPORTATION

Federal Aviation Administration

14 CFR Part 39

[Docket No. FAA-2018-0245; Product Identifier 2018-CE-012-AD; Amendment 39-19234; AD 2018-07-03]

RIN 2120-AA64

Airworthiness Directives; Piper Aircraft, Inc.

AGENCY: Federal Aviation Administration (FAA), DOT.

ACTION: Final rule; request for comments.

SUMMARY: We are superseding Airworthiness Directive (AD) 2018-02-05 for certain Piper Aircraft, Inc. Models PA-28-140, PA-28-150, PA-28-151, PA-28-160, PA-28-161, PA-28-180, PA-28-181, PA-28-236, PA-28-201T, PA-28R-180, PA-28R-200, PA-28R-201, PA-28R-201T, PA-28RT-201, and PA-28RT-201T airplanes. AD 2018-02-05 required inspecting the fuel tank selector cover to verify the left and right fuel tank selector placards are located at the proper positions and replacing those that are improperly located with new placards. This AD addresses the same unsafe condition and requires the same actions as AD 2018-02-05, but changes the inspection of the fuel tank selector cover to a preflight check and allows for various fuel selector clocking configurations. This AD was prompted by our determination to allow the owner/operator (pilot) holding at least a private pilot certificate to perform the preflight check. We are issuing this AD to allow the pilot to do a preflight check of the fuel selector placards.

DATES: This AD is effective April 20, 2018.

The Director of the Federal Register approved the incorporation by reference of a certain publication listed in this AD as of April 20, 2018.

We must receive any comments on this AD by May 21, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this final rule, contact Piper Aircraft, Inc., 2926 Piper Drive, Vero Beach, FL 32960; telephone: (772) 567-4361; internet: www.piper.com/technical-publications-documents/. You may view this service information at the FAA, Policy and Innovation Division, 901 Locust, Kansas City, Missouri 64106. For information on the availability of this material at the FAA, call (816) 329-4148. It is also available on the internet at http://www.regulations.gov by searching for and locating Docket No. FAA-2018-0245.

Examining the AD Docket

You may examine the AD docket on the internet at http://www.regulations.gov by searching for and locating Docket No. FAA-2018-0245; or in person at Docket Operations between 9 a.m. and 5 p.m., Monday through Friday, except Federal holidays. The AD docket contains this final rule, the regulatory evaluation, any comments received, and other information. The street address for Docket Operations (phone: 800-647-5527) is listed above. Comments will be available in the AD docket shortly after receipt.

FOR FURTHER INFORMATION CONTACT: Boyce Jones, Aerospace Engineer, Atlanta ACO Branch, FAA, 1701 Columbia Avenue, College Park, Georgia 30337; phone: (404) 474-5535; fax: (404) 474-5606; email: boyce.jones@faa.gov.

SUPPLEMENTARY INFORMATION:

Discussion

We issued AD 2018-02-05, Amendment 39-19158 (83 FR 3064, January 23, 2018), (“AD 2018-02-05”), for certain Piper Aircraft, Inc. Models PA-28-140, PA-28-150, PA-28-151, PA-28-160, PA-28-161, PA-28-180, PA-28-181, PA-28-236, PA-28-201T, PA-28R-180, PA-28R-200, PA-28R-201, PA-28R-201T, PA-28RT-201, and PA-28RT-201T airplanes. AD 2018-02-05 required inspecting the fuel tank selector cover to verify the left and right fuel tank selector placards are located at the 12:00 and 3:00 clock positions, respectively, and replacing those that are improperly located with new placards. AD 2018-02-05 resulted from a quality control issue that resulted in the installation of fuel tank selector covers with the placement of the left and right fuel tank selector placards installed in reverse. We issued AD 2018-02-05 to prevent fuel management error. The unsafe condition, if not addressed, could result in fuel starvation and loss of engine power in flight.

Actions Since AD 2018-02-05 Was Issued

Since we issued AD 2018-02-05, we have determined that the owner/operator (pilot) holding at least a private pilot certificate will be allowed to perform the preflight check of the fuel tank selector placards.

Related Service Information Under 1 CFR Part 51

We reviewed Piper Aircraft, Inc. Service Bulletin No. 1309A, dated March 6, 2018. The service bulletin describes procedures for doing a preflight check of the fuel tank selector cover to verify the left and right fuel tank selector placards are located in the proper positions, and replacing those that are improperly located with a new placard. This service information is reasonably available because the interested parties have access to it through their normal course of business or by the means identified in the ADDRESSES section.

FAA's Determination

We are issuing this AD because we evaluated all the relevant information and determined the unsafe condition described previously is likely to exist or develop in other products of the same type design.

AD Requirements

This AD requires doing a preflight check of the fuel tank selector cover to verify the left and right fuel tank selector placards are located at the proper positions and replacing those that are improperly located with new placards. The preflight check required in this AD may be performed by the owner/operator (pilot) holding at least a private pilot certificate and must be entered into the airplane records showing compliance with this AD in accordance with 14 CFR 43.9 (a)(1)-(4) and 14 CFR 91.417(a)(2)(v). The record must be maintained as required by 14 CFR 91.417, 121.380, or 135.439.

FAA's Justification and Determination of the Effective Date

The FAA previously determined that the risk to the flying public justified waiving notice and comment prior to the adoption of AD 2018-02-05. This AD is being issued to relieve the maintenance requirements found in 2018-02-05, by changing the inspection of the fuel tank selector cover to a preflight check, while also allowing for various fuel selector clocking configurations. Because the substance of AD 2018-02-05 remains the same, but for the relieving aspects noted in this AD, we find good cause that notice and opportunity for prior public comment are unnecessary. In addition, for the reasons stated above, we find that good cause exists for making this amendment effective in less than 30 days.

Comments Invited

This AD is a final rule that involves requirements affecting flight safety, and we did not provide you with notice and an opportunity to provide your comments before it becomes effective. However, we invite you to send any written data, views, or arguments about this final rule. Send your comments to an address listed under the ADDRESSES section. Include the docket number FAA-2018-0245 and product identifier 2018-CE-012-AD at the beginning of your comments. We specifically invite comments on the overall regulatory, economic, environmental, and energy aspects of this final rule. We will consider all comments received by the closing date and may amend this final rule because of those comments.

We will post all comments we receive, without change, to http://www.regulations.gov, including any personal information you provide. We will also post a report summarizing each substantive verbal contact we receive about this final rule.

Costs of Compliance

We estimate that this AD affects 17,957 airplanes, of U.S. registry.

We estimate the following costs to comply with this AD:

Since this AD allows the owner/operator (pilot) holding at least a private pilot certificate to perform the required preflight check of the fuel tank selector placards, there is a reduction in cost associated with this AD.

We estimate the following costs to do any necessary replacements that will be required based on the results of the preflight check of the left and right fuel tank selector placards for proper installation inspection. We have no way of determining the number of aircraft that might need this replacement:

On-Condition Costs
Action | Labor cost | Parts cost | Cost per product
Install new fuel selector placards on the fuel selector cover | .5 work-hour × $85 per hour = $42.50 | $9.26 | $51.76

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-02-05, Amendment 39-19158 (83 FR 3064, January 23, 2018) and adding the following new AD:

2018-07-03 Piper Aircraft, Inc: Amendment 39-19234; Docket No. FAA-2018-0245; Product Identifier 2018-CE-012-AD.

(a) Effective Date

This AD is effective April 20, 2018.

(b) Affected ADs

This AD replaces 2018-02-05, Amendment 39-19158 (83 FR 3064, January 23, 2018) (“AD 2018-02-05”).

(c) Applicability

This AD applies to the following Piper Aircraft, Inc. airplane models and serial numbers (S/Ns) that are certificated in any category:

Table—1 to Paragraph (c) of This AD—Applicable Airplane Models and S/Ns
Model | Serial No.
PA-28-140 | 28-20001 through 28-26946; 28-7125001 through 28-7725290.
PA-28-150 | 28-03, 28-1 through 28-4377, and 28-1760A.
PA-28-151 | 28-7415001 through 28-7715314.
PA-28-160 | 28-03, 28-1 through 28-4377, and 28-1760A.
PA-28-161 | 2841001 through 2841365, 28-7716001 through 28-8216300, 28-8316001 through 28-8616057, 2816001 through 2816109, 2816110 through 2816119, and 2842001 through 2842420.
PA-28-180 | 28-03, 28-671 through 28-5859, 28-7105001 through 28-7205318, 28-E13, and 28-7305001 through 28-7505261.
PA-28-181 | 28-7690001 through 28-8690056, 28-8690061, 28-8690062, 2890001 through 2890205, 2890206 through 2890231, and 2843001 through 2843879.
PA-28-236 | 28-7911001 through 28-8611008 and 2811001 through 2811050.
PA-28-201T | 28-7921001 through 28-7921095.
PA-28R-180 | 28R-30002 through 28R-31270 and 28R-7130001 through 28R-7130019.
PA-28R-200 | 28R-30482, 28R-35001 through 28R-35820, 28R-7135001 through 28R-7135238, and 28R-7235001 through 28R-7635545.
PA-28R-201 | 28R-7737002 through 28R-7837317, 2837001 through 2837061, and 2844001 through 2844171.
PA-28R-201T | 28R-7703001 through 28R-7803374 and 2803001 through 2803015.
PA-28RT-201 | 28R-7918001 through 28R-8218026.
PA-28RT-201T | 28R-7931001 through 28R-8631005, and 2831001 through 2831038.

(d) Subject

Joint Aircraft System Component (JASC)/Air Transport Association (ATA) of America Code 11, Placard and Markings.

(e) Unsafe Condition

This AD was prompted by our determination to change the inspection of the fuel tank selector cover to a preflight check and allows for various fuel selector clocking configurations. We are issuing this AD to allow the pilot to do a preflight check of the fuel selector placards.

(f) Compliance

Comply with this AD within the compliance times specified, unless already done.

(g) Preflight Check of the Fuel Selector Cover

Before further flight after April 20, 2018 (the effective date of this AD), check the left and right fuel selector cover placards for proper installation using the Appendix to this AD. If the fuel selector placards are properly installed, no further action is required. The preflight check of the fuel selector cover may be performed by the owner/operator (pilot) holding at least a private pilot certificate and must be entered into the airplane records showing compliance with this AD in accordance with 14 CFR 43.9 (a)(1)-(4) and 14 CFR 91.417(a)(2)(v). The record must be maintained as required by 14 CFR 91.417, 121.380, or 135.439.

(h) Install Temporary Fuel Selector Placards

If improper (reversed clock positions) installation of the left and right fuel selector placards is found during the preflight check of the fuel selector cover required in paragraph (g) of this AD, before further flight, fabricate and install temporary left and right fuel selector placards using Part II of Piper SB No. 1309A, dated March 6, 2018. In lieu of installing the temporary placards required by this paragraph, you may install the permanent placards specified in paragraph (i) of this AD. An FAA-approved licensed mechanic authorized to do maintenance is required to do any fabrication and installation of the fuel selector placards required in this AD.

(i) Install Permanent Fuel Selector Placards

Within the next 100 hours time-in-service (TIS) after April 20, 2018 (the effective date of this AD), replace the temporary placard installed in paragraph (h) of this AD with permanent left and right fuel selector placards using Part III of Piper SB No. 1309A, dated March 6, 2018, unless already done in lieu of installing the temporary placards specified in paragraph (h) of this AD.

(j) Credit for Previous Actions

This AD allows credit for doing the actions required in paragraphs (g) through (i) of this AD using Piper Aircraft, Inc. Service Bulletin No. 1309, dated October 10, 2017, if done before the effective date of this AD in compliance with AD 2018-02-05.

(k) Special Flight Permit

A special flight permit is allowed for this AD per 14 CFR 39.23 with the following limitations: Flights are not to exceed a total of 100 hours TIS with temporary placards installed.

(l) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (m) of this AD.

(2) Before using any approved AMOC, notify your appropriate principal inspector, or lacking a principal inspector, the manager of the local flight standards district office/certificate holding district office.

(3) AMOCs approved for AD 2018-02-05 are not approved as AMOCs for the corresponding provisions of this AD.

(m) Related Information

For more information about this AD, contact Boyce Jones, Aerospace Engineer, Atlanta ACO Branch, FAA, 1701 Columbia Avenue, College Park, Georgia 30337; phone: (404) 474-5535; fax: (404) 474-5606; email: boyce.jones@faa.gov.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Piper Aircraft, Inc. Service Bulletin No. 1309A, dated March 6, 2018.

(ii) Reserved.

(3) For Piper Aircraft, Inc. service information identified in this AD, contact Piper Aircraft, Inc., 2926 Piper Drive, Vero Beach, FL 32960; telephone: (772) 567-4361; internet: www.piper.com/technical-publications-documents/.

(4) You may view this service information at FAA, Policy and Innovation Division, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Appendix to AD 2018-07-03

Special Preflight Check

Note: This action may be performed by the owner/operator (pilot) holding at least a private pilot certificate and must be entered into the airplane records showing compliance with AD 2018-07-03 in accordance with 14 CFR 43.9 (a)(1)-(4) and 14 CFR 91.417(a)(2)(v). The record must be maintained as required by 14 CFR 91.417, 121.380, or 135.439. This action may also be performed by an FAA-approved licensed mechanic.

(1) Compare the currently installed fuel selector cover against the covers shown in Figure 2, View A-A:

(a) If the currently installed fuel selector cover matches the cover shown in Figure 2, View A-A, then proceed to Step 2.

(b) If the currently installed fuel selector cover does not match the cover shown Figure 2, View A-A (Note: The fuel selector cover that does not match View A-A is a flat round plate without any features that limit the rotational travel of the fuel selector lever), then the remaining instructions in AD 2018-07-03 do not apply and no further action is required. Compliance with this part of AD 2018-07-03 must be documented by the owner/operator (pilot) holding at least a private pilot certificate, and must be entered into the aircraft records showing compliance with this AD in accordance with 14 CFR 43.9 (a)(1)-(4) and 14 CFR 91.417(a)(2)(v). The record must be maintained as required by 14 CFR 91.417, 121.380, or 135.439.

Note: Documentation in the aircraft logbook should include: (1) Current Date (2) Tach Time (3) Statement that the comparison has been accomplished, including the AD number and Revision date (4) Sign and Print Name (5) Certificate Type & Number.

BILLING CODE 4910-13-P

BILLING CODE 4910-13-C

(2) Compare the currently installed fuel selector cover to the illustration in Figure 2, View A-A. Examine all placards for proper placement, with specific emphasis on the location of the placards labeled L TANK and R TANK.

Note: The fuel selector cover placard positions will vary. See Figure 2, View A-A.

(a) If the placards are in the proper locations, then no further action is required. Compliance with this part AD 2018-07-03 must be documented by the owner/operator (pilot) holding at least a private pilot certificate, and must be entered into the aircraft records showing compliance with this AD in accordance with 14 CFR 43.9 (a)(1)-(4) and 14 CFR 91.417(a)(2)(v). The record must be maintained as required by 14 CFR 91.417, 121.380, or 135.439.

Note: Documentation in the aircraft logbook should include: (1) Current Date (2) Tach Time (3) Statement that the comparison has been accomplished, including the AD number and Revision date (4) Sign and Print Name (5) Certificate Type & Number.

(b) If replacement is required, proceed to either paragraph (h) and (i) of AD 2018-07-03.

Issued in Kansas City, Missouri, on March 23, 2018.
Melvin J. Johnson,
Deputy Director, Policy & Innovation Division, Aircraft Certification Service.

[FR Doc. 2018-06336 Filed 4-4-18; 8:45 am]

BILLING CODE 4910-13-P